COMMISSION ON CIVIL RIGHTS

Notice of Public Meeting of the Arkansas Advisory Committee to the U.S. Commission on Civil Rights

AGENCY: U.S. Commission on Civil Rights.

ACTION: Announcement of meeting.

SUMMARY: Notice is hereby given, pursuant to the provisions of the rules and regulations of the U.S. Commission on Civil Rights (Commission) and the Federal Advisory Committee Act that the Arkansas Advisory Committee (Committee) will hold a meeting on Tuesday April 23, 2019 from 1:00 p.m. until 3:30 p.m. Central time. The Committee will hear public testimony regarding civil rights and mass incarceration in the state.

DATES: The meeting will take place on Tuesday April 23, 2019 from 1:00 p.m. until 3:30 p.m. Central time.

Location: The E.J. Ball Courtroom, University of Arkansas School of Law. 1045 W Maple Ave., Fayetteville, AR 72701.

Remote Call Information (audio only): Dial: 877-260-1479, Conference ID: 1500225.

Live Web Stream: https://echo360.org/section/a38a4312-913f-4c45-90fe-44481deb1242/public.

FOR FURTHER INFORMATION CONTACT: Melissa Wojnaroski, DFO, at mwojnaroski@usccr.gov or 312-353-8311.

SUPPLEMENTARY INFORMATION: This meeting is free and open to the public. Members of the public may appear in person and participate. Members of the public may also listen to the discussion through the above listed toll free number (audio only), or via the above listed web streaming link. Members of the public will be invited to make a statement as time allows; you must sign up on-site when you arrive if you wish to speak.

For those joining remotely, the conference call operator will ask callers to identify themselves, the organization they are affiliated with (if any), and an email address prior to placing callers into the conference room. Callers can expect to incur regular charges for calls they initiate over wireless lines, according to their wireless plan. The Commission will not refund any incurred charges. Callers will incur no charge for calls they initiate over land-line connections to the toll-free telephone number. Persons with hearing impairments may also follow the proceedings by first calling the Federal Relay Service at 1-800-877-8339 and providing the Service with the conference call number and conference ID number.

Members of the public are also entitled to submit written comments; the comments must be received in the regional office within 30 days following the meeting. Written comments may be mailed to the Regional Programs Unit, U.S. Commission on Civil Rights, 230 S Dearborn, Suite 2120, Chicago, IL 60604. They may also be faxed to the Commission at (312) 353-8324, or emailed to Corrine Sanders at csanders@usccr.gov. Persons who desire additional information may contact the Regional Programs Unit at (312) 353-8311.

Records generated from this meeting may be inspected and reproduced at the Regional Programs Unit Office, as they become available, both before and after the meeting. Records of the meeting will be available via www.facadatabase.gov under the Commission on Civil Rights, Arkansas Advisory Committee link. Persons interested in the work of this Committee are directed to the Commission's website, http://www.usccr.gov, or may contact the Regional Programs Unit at the above email or street address.

Agenda

Welcome and Introductions

Public Testimony: Mass Incarceration

Adjournment

Dated: March 28, 2019.
David Mussatt,
Supervisory Chief, Regional Programs Unit.

[FR Doc. 2019-06409 Filed 4-2-19; 8:45 am]

BILLING CODE 6335-01-P